FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 2, 2001.

A. Federal Reserve Bank of Boston (Richard Walker, Community Affairs Officer) 600 Atlantic Avenue, Boston, Massachusetts 02106-2204:

1. John D. Doherty and Joseph R. Doherty, Somerville, Massachusetts; to acquire more than 10 percent of the voting shares of Central Bancorp, Inc., Somerville, Massachusetts.

B. Federal Reserve Bank of Cleveland (Paul Kaboth, Banking Supervision) 1455 East Sixth Street, Cleveland, Ohio 44101-2566:

1. Janet M. Williams, individually, as trustee of the B. Anthony Williams Trust, and as executor of the estate of B. Anthony Williams, and Janet M. Williams, Lynn Williams Cowan, Beth Leah Ellingerwood, Brooke Allison Williams, Dana Love Williams, Margaret Constance Ellingwood, James Whittaker Ellingwood, and the B. Anthony Williams Trust; all members of the Williams Family acting in concert, all of Wilmington, Ohio; to retain voting shares of NB&T Financial Group, Inc., Wilmington, Ohio, and thereby indirectly retain shares of National Bank & Trust Company, Wilmington, Ohio.

Board of Governors of the Federal Reserve System, July 13, 2001.
Jennifer J. Johnson,
Secretary of the Board.

[FR Doc. 01-17989 Filed 7-18-00; 8:45 am]

BILLING CODE 6210-01-S